DEPARTMENT OF JUSTICE

Notice of Lodging of Consent Decree Pursuant to the Clean Water Act (“CWA”) and the Comprehensive Environmental Response, Compensation and Liability Act (“CERCLA”)

Consistent with Departmental policy, 28 CFR 50.7, notice is hereby given that a proposed Consent Decree in United States v. Gulf States Steel, Inc. was lodged with the United States District Court for the Northern District of Alabama on march 28, 2000 (CV-97-BU-2755-M). The United States filed a complaint pursuant to Section 309(b) of the Clean Water Act alleging that the defendant violated the CWA on numerous occasions. The proposed Consent Decree resolves the CWA liability of Gulf States Steel as alleged in the complaint. The United States also believes that the defendant is liable pursuant to Section 107 of the Comprehensive Environmental Response, Compensation, and Liability Act of 1980 (“CERCLA”), as amended, for costs incurred and to be incurred by the United States Environmental Protection Agency at the Gulf States Steel Superfund Site in Gadsden, Alabama. The proposed Consent Decree resolves certain such liabilities.

Under the Consent Decree, Gulf States Steel agrees to pay a civil penalty to the United States in the amount of $100,000. In addition, Gulf States Steel agrees to operate its plant in compliance with its National Pollutant Discharge Elimination System (NPDES) Permit, and with the CWA. In addition, Gulf States Steel agrees to undertake certain Supplemental Environmental Projects (SEPs) in the amount of at least $206 million. These SEPs will result in significant pollution prevention or reduction in excess of Gulf States Steel's legal obligations. In addition, one SEP will result in Gulf States Steel purchasing ecologically-valuable land for perpetual preservation. Gulf States Steel also agrees to pay $6.54 million for cleanup of Lake Gadsden and Black Creek in Gadsden, Alabama. Gulf States Steel also agrees to purchase or donate appropriate real property for placement of sediments, if needed by EPA, Region 4.

The Department of Justice will receive, for a period of thirty (30) days from the date of this publication, comments relating to the proposed Consent Decree. Comments should be addressed to the Assistant Attorney General for the Environment and Natural Resources Division, U.S. Department of Justice, P.O. Box 7611, Washington, D.C. 20044; and refer to United States v. Gulf States Steel, Inc. DOJ Ref. # 90-5-1-1-4211.

The proposed settlement agreement may be examined at the Office of the United States Attorney, 1800 Fifth Avenue, North, Birmingham, Alabama 35203, and at the office of the Environmental Protection Agency, Region 4, 61 Forsyth Street, S.W., Atlanta, GA 30303. In requesting a copy, please refer to the referenced case and enclose a check in the amount of $4.25 (25 cents per page reproduction costs).

Joel Gross,
Chief, Environmental Enforcement Section, Environment and Natural Resources Division.

[FR Doc. 00-8602 Filed 4-6-00; 8:45 am]

BILLING CODE 4410-15-M